FEDERAL TRADE COMMISSION

Agency Information Collection Activities; Submission for OMB Review; Comment Request; Correction

AGENCY: Federal Trade Commission (“FTC” or “Commission”).

ACTION: Notice; correction.

SUMMARY: The Federal Trade Commission published a document in the Federal Register of April 15, 2010, seeking public comments on its proposal to extend through May 31, 2013, the current Paperwork Reduction Act clearance for information collection requirements associated with the Contact Lens Rule (the Rule), 16 CFR part 315. The document contained an incorrect OMB Control No. for the pre-existing clearance. The correct number is 3084-0127.

FOR FURTHER INFORMATION CONTACT: Requests for additional information or copies of the proposed information requirements should be addressed to Karen Jagielski, Attorney, Division of Advertising Practices, Bureau of Consumer Protection, Federal Trade Commission, 600 Pennsylvania Avenue, NW., NJ- 3212, Washington, DC 20580, (202) 326-2509. Correction In the Federal Register of April 15, 2010, in FR Doc. 2010-8647, on page 19647, in the third column, under Supplementary Information: Background, correct the second paragraph, third sentence, to read: “Pursuant to the OMB regulations, 5 CFR Part 1320, that implement the PRA, the FTC is providing this second opportunity for public comment while seeking OMB approval to renew the pre-existing clearance for the Rule (OMB Control No. 3084-0127).”

By direction of the Commission.

Donald S. Clark
Secretary.

[FR Doc. 2010-11501 Filed 5-12-10; 8:45 am]

BILLING CODE: 6750-01-S